DEPARTMENT OF HEALTH AND HUMAN SERVICES

Food and Drug Administration

[Docket No. FDA-2010-N-0267]

Agency Information Collection Activities; Proposed Collection; Comment Request; Survey on Consumers' Emotional and Cognitive Reactions to Food Recalls

AGENCY: Food and Drug Administration, HHS.

ACTION: Notice.

SUMMARY: The Food and Drug Administration (FDA) is announcing an opportunity for public comment on the proposed collection of certain information by the Agency. Under the Paperwork Reduction Act of 1995 (the PRA), Federal agencies are required to publish notice in the Federal Register concerning each proposed collection of information and to allow 60 days for public comment in response to the notice. This notice solicits comments on a survey on Consumers' Emotional and Cognitive Reactions to Food Recalls.

DATES: Submit either electronic or written comments on the collection of information by August 17, 2010.

ADDRESSES: Submit electronic comments on the collection of information to http://www.regulations.gov. Submit written comments on the collection of information to the Division of Dockets Management (HFA-305), Food and Drug Administration, 5630 Fishers Lane, rm. 1061, Rockville, MD 20852. All comments should be identified with the docket number found in brackets in the heading of this document.

FOR FURTHER INFORMATION CONTACT: Denver Presley, Jr., Office of Information Management, Food and Drug Administration, 1350 Piccard Dr., PI50-400B, Rockville, MD 20850, 301-796-3793.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information before submitting the collection to OMB for approval. To comply with this requirement, FDA is publishing notice of the proposed collection of information set forth in this document.

With respect to the following collection of information, FDA invites comments on these topics: (1) Whether the proposed collection of information is necessary for the proper performance of FDA's functions, including whether the information will have practical utility; (2) the accuracy of FDA's estimate of the burden of the proposed collection of information, including the validity of the methodology and assumptions used; (3) ways to enhance the quality, utility, and clarity of the information to be collected; and (4) ways to minimize the burden of the collection of information on respondents, including through the use of automated collection techniques, when appropriate, and other forms of information technology.

Survey on Consumers' Emotional and Cognitive Reactions to Food Recalls—21 U.S.C. 393(d)(2)(C) (OMB Control Number 0910-NEW)

I. Background

The proposed “Survey on Consumers' Emotional and Cognitive Reactions to Food Recalls” will be conducted under a cooperative agreement between the Joint Institute for Food Safety and Applied Nutrition (JIFSAN) and the Center for Risk Communication Research at the University of Maryland. JIFSAN was established in 1996 and is a public and private partnership between FDA and the University of Maryland. The Center for Risk Communication Research will design and administer the study.

The proposed study will assess consumers' emotional and cognitive recollection of certain food recalls and gauge how these recollections affect their current perceptions about food recalls and their inclination to adhere to future recommended food recall behaviors. Existing data show that many consumers do not take appropriate protective actions during a foodborne illness outbreak or food recall (Refs. 1 and 2). For example, 41 percent of U.S. consumers say they have never looked for any recalled product in their home (Ref. 2). Conversely, some consumers overreact to the announcement of a foodborne illness outbreak or food recall. In response to the 2006 fresh, bagged spinach recall which followed a multistate outbreak of Escherichia coli O157: H7 infections (Ref. 3), 18 percent of consumers said they stopped buying other bagged, fresh produce because of the spinach recall (Ref. 1).

Research shows that emotion plays a large role in decisionmaking, and that individuals may not be conscious of its effects on their behavior (Ref. 4). For example, when people are angry they are likely to place blame, take action, and want justice to be served (Ref. 5). If a particular food recall engenders widespread anger and the anger is coupled with behavior that is less than desirable from a food safety or nutritional standpoint, it is possible that anger will be the lens through which future food recall situations are viewed, thus resulting in similar undesirable behaviors. Findings from this study will help FDA understand the emotional response to food recalls. This will help FDA to design more effective consumer food recall messages during and after a recall.

FDA conducts research and educational and public information programs relating to food safety under its broad statutory authority, set forth in section 903(b)(2) of the Federal Food, Drug, and Cosmetic Act (the act) (21 U.S.C. 393(b)(2)), to protect the public health by ensuring that foods are “safe, wholesome, sanitary, and properly labeled,” and in section 903(d)(2)(C), to conduct research relating to foods, drugs, cosmetics, and devices in carrying out the act.

FDA plans to survey U.S. consumers using a Web-based panel of U.S. households to collect information on consumers' cognitive and emotional reaction to food recalls. The survey will query consumers on their recollection of food recalls within the past 5 years; attitude toward recalled foods; knowledge about particular food recalls; behavior during the food recall; assessment and appraisals of susceptibility, severity, satisfaction, and self-efficacy.

The data will be collected using an online survey. A pool of 10,000 consumers from a Web-based consumer panel will be screened for eligibility based on age (18+ years) and familiarity with recent food recalls. One thousand of those screened consumers will be randomly selected to participate in the survey. The results of the survey will not be used to generate population estimates.

FDA estimates the burden of this collection of information as follows:

Table 1.—Estimated Annual Reporting Burden¹
Activity | No. of Respondents | Annual Frequency per Response | Total Annual Responses | Hours per Response | Total Hours
Screener | 10,000 | 1 | 10,000 | .006 | 60
Pre-test | 40 | 1 | 40 | .167 | 7
Survey | 1,000 | 1 | 1,000 | .167 | 167
Total | 11,040 | 1 | 11,040 |  | 234
¹ There are no capital costs or operating and maintenance costs associated with this collection of information.

Ten thousand members of a Web-based consumer panel will be screened. We estimate that it will take a respondent 20 seconds (.006 hours) to complete the screening questions, for a total of 60 hours. We will conduct a pre-test of the survey with 40 respondents; we estimate that it will take a respondent 10 minutes (.167 hours) to complete the pre-test, for a total of 7 hours. One thousand (1,000) respondents will complete the survey. We estimate that it will take a respondent 10 minutes (.167 hours) to complete the survey, for a total of 167 hours. Thus, the total estimated burden is 234 hours.

II. References

1. Cuite, C., S. Condry, M. Nucci, et al., “Public Response to the Contaminated Spinach Recall of 2006,” Publication number RR-0107-013, New Brunswick, NJ: Rutgers, the State University of New Jersey, Food Policy Institute, 2007.

2. Hallman, W., C. Cuite, and N. Hooker, “Consumer Responses to Food Recalls: 2009 National Survey Report,” Publication number RR-0109-018, New Brunswick, NJ: Rutgers, the State University of New Jersey, Food Policy Institute, 2009.

3. Acheson, D., “Outbreak of Escherichia coli 0157 Infections Associated With Fresh Spinach—United States, August-September 2006,” 2007 (http://first.fda.gov/cafdas/documents/Acheson_Spinach_Outbreak_2006_FDA_pres.ppt).

4. Han, S., J. S. Lerner, and D. Keltner, “Feelings and Consumer Decision Making: The Appraisal-Tendency Framework,” Journal of Consumer Psychology, 17(3) 158-168, 2007.

5. Lazurus, R. S., “Emotion and Adaptation,” New York: Oxford University Press, 1991.

Dated: June 14, 2010.
David Dorsey,
Acting Deputy Commissioner for Policy, Planning and Budget.

[FR Doc. 2010-14815 Filed 6-17-10; 8:45 am]

BILLING CODE 4160-01-S